ENVIRONMENTAL PROTECTION AGENCY

40 CFR Part 52

[EPA-R09-OAR-2021-0748; FRL-11882-01-R9]

Air Plan Revisions; Arizona; Maricopa County Air Quality Department

AGENCY: Environmental Protection Agency (EPA).

ACTION: Proposed rule.

SUMMARY: The Environmental Protection Agency (EPA) is proposing to approve revisions to the Maricopa County Air Quality Department (MCAQD) portion of the Arizona State Implementation Plan (SIP). These revisions concern emissions of volatile organic compounds (VOCs), oxides of nitrogen (NOX), particulate matter (PM), and oxides of sulfur (SOX). We are proposing to approve local rules to regulate these emission sources under the Clean Air Act (CAA or the Act). We are taking comments on this proposal and plan to follow with a final action.

DATES: Comments must be received on or before May 16, 2024.

ADDRESSES: Submit your comments, identified by Docket ID No. EPA-R09-OAR-2021-0748 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: La Kenya Evans-Hopper, EPA Region IX, 75 Hawthorne St., San Francisco, CA 94105; phone: (415) 972-3245; email: evanshopper.lakenya@epa.gov.

SUPPLEMENTARY INFORMATION: Throughout this document, “we,” “us,” and “our” refer to the EPA.

Table of Contents

I. The State's Submittal

A. What rules are the county rescinding, and/or replacing?

B. What is the purpose of the rules and what is the impact of the EPA's rescissions?

II. The EPA's Evaluation and Action

A. How is the EPA evaluating the request for rescission, and/or replacement?

B. Do the rule rescissions, and/or replacements, meet the evaluation criteria?

C. Public Comment and Proposed Action

III. Incorporation by Reference

IV. Statutory and Executive Order Reviews

I. The State's Submittal

A. What rules are the county rescinding, and/or replacing?

On September 13, 2017, and November 13, 2023, the Arizona Department of Environmental Quality (ADEQ) submitted to the EPA requests from MCAQD to act on a series of rules from the existing SIP, including the rescission of various local rules. Table 1 lists the SIP-approved rules proposed to be rescinded from the SIP by this proposed rule with the dates that they were adopted by the MCAQD and previously approved into the SIP. We are proposing action on the entire November 13, 2023 submittal (“2023 SIP Submittal”) and a portion of the September 13, 2017 submittal (“2017 SIP Submittal”). Portions of other rules from the 2017 SIP Submittal were addressed in other rulemakings (see Table 3 and 87 FR 42324 (September 15, 2022)), and the remaining portions of the 2017 SIP Submittal will be addressed in a future rulemaking.¹

¹ A summary of the status of the 2017 SIP Submittal is included in the docket for this action. See “Maricopa Recodification Project, Submitted 2017, Rules Updates,” March 2024, EPA Region 9.

Table 1—Rules To Be Rescinded
Rule No. | Title | Local adoption date | SIP approval date | FR citation
22 | Permit Denial-Action-Transfer-Expiration-Posting-Revocation-Compliance | August 12, 1971 | July 27, 1972 | 37 FR 15080
28 | Permit Fees | March 8, 1982 | June 18, 1982 | 47 FR 26382
32 G | Other Industries | October 1, 1975 | April 12, 1982 | 47 FR 15579
32 H | Fuel Burning Equipment for Producing Electric Power (Sulfur Dioxide) | October 1, 1975 | April 12, 1982 | 47 FR 15579
32 J | Operating Requirements for an Asphalt Kettle | June 23, 1980 | April 12, 1982 | 47 FR 15579
32 K | Emissions of Carbon Monoxide | June 23, 1980 | April 12, 1982 | 47 FR 15579
41 A | Monitoring | August 12, 1971 | July 27, 1972 | 37 FR 15080
41 B | Monitoring | October 2, 1978 | April 12, 1982 | 47 FR 15579
42 | Testing and Sampling | August 12, 1971 | July 27, 1972 | 37 FR 15080
74 C | Public Notification | June 23, 1980 | April 12, 1982 | 47 FR 15579

Table 2 lists the submitted rule sections addressed by this proposal with the dates that they were adopted by the MCAQD and submitted by ADEQ on behalf of the MCAQD for inclusion into the SIP.

Table 2—Submitted Rules
Rule No. | Title | Local revision date | EPA submission date
320 Section 306 | Odors and Gaseous Air Contaminants, Limitation—Sulfur from Other Industries | July 2, 2023 | November 13, 2023.
320 Section 307 | Odors and Gaseous Air Contaminants, Operating Requirements—Asphalt Kettles and Dip Tanks | July 2, 2023 | November 13, 2023.

On December 4, 2023, the EPA determined that the submittal for MCAQD Rule 320, section 306 and section 307 from the 2023 SIP Submittal, met the completeness criteria in 40 CFR part 51 Appendix V. On March 13, 2018, the 2017 SIP Submittal was deemed by operation of law to meet the completeness criteria in 40 CFR part 51 Appendix V. SIP submittals must meet the completeness criteria before formal EPA review.

B. What is the purpose of the rules and what is the impact of the EPA's rescissions?

Since initial SIP approval in the 1970s, Maricopa County has revised many of its rules to comply with the CAA national ambient air quality standards (NAAQS) requirements, and to implement reasonably available control technology (RACT) for various source categories in nonattainment areas. These rules were submitted to the EPA for incorporation into the Arizona SIP at various times. In 2016, the EPA reformatted the Arizona SIP as codified in the Code of Federal Regulations (CFR) into a tabulated “notebook” format. While developing the updated SIP tables for that conversion, the EPA worked closely with the ADEQ and local air agencies to clarify what was in their applicable SIP, including older provisions that had not been updated or replaced to reflect local rulemakings. The result of that coordination was the MCAQD's 2017 SIP submittal that requests to rescind or replace many obsolete rules in the federally enforceable SIP in favor of rules that reflect their current locally enforceable rulebook. The MCAQD also submitted an updated request on November 13, 2023, to replace Rule 32, sections G and J with Rule 320 sections 306 and 307. The 2023 SIP Submittal request supersedes the 2017 SIP Submittal request with respect to Rules 32, sections G and J. What follows is a summary of the rules identified in Table 1 that we are proposing for rescission and/or replacement in this rulemaking.

Rule 22 states that the Control Officer shall deny or revoke an Installation Permit and an Operating Permit if the applicant does not show that every machine, equipment, incinerator, device or other article usage (units; with or without air pollution control equipment) does not eliminate or reduce air pollution. If the Control Officer finds that such units under an Operating Permit are constructed not in accordance with the Installation Permit, the Control Office shall not accept any further application for an Operating Permit for these units. If the units are reconstructed in accordance with the Installation Permit, they may be permitted an Operating Permit. All permits are non-transferable and must be affixed to the unit. Rule 22 was superseded by Rule 200, Rule 210, Rule 220, Rule 240, and Rule 241.²

² 87 FR 8418 (February 15, 2022).

Rule 28 supplies the fees and fee schedules for Installation Permits and Annual Operating Permits. Rule 28 was included in the SIP to meet CAA section 110(a)(2)(L) that requires permitting fees under the new source review (NSR) preconstruction permitting program, until it is superseded by the fee requirement under the title V operating permits program (CAA sections 501-507). Since Maricopa County has an EPA approved title V operating permits program that includes a fee rule, permit fees are not required to be in the SIP.³

³ Letter dated June 28, 2023, from Philip A. McNeely, Director, MCAQD, to Matthew Lakin, Acting Director, EPA Region IX, Subject: “RE: Rule 28 (Permit Fees) Justification to Rescind from the Arizona State Implementation Plan (SIP) Without Replacement.”

The following sections of Rule 32 are the subject of this proposed rule. The remainder of Rule 32 (sections A, B, C, D, E, and F) were removed from the SIP on July 15, 2022 (87 FR 42324). Rule 32, section G states that no person shall discharge sulfur, sulfur dioxide (SO2), or sulfur equivalent, into the atmosphere in excess of 10% of the sulfur entering the process as feed. Rule 32, section G is being rescinded and replaced by analogous requirements in Rule 320, section 206 (submitted on November 13, 2023). Rule 32, section H applies to an installation that operate steam power to produce electric power with a resulting discharge of SO2. With a two-hour maximum average, new sources shall not emit more than 0.80 pounds of SO2 per million Btu, and existing sources shall not emit more than 1.0 pound of SO2 per million Btu when coal or oil is fired. Existing sources firing on high sulfur oil shall not emit more than 2.2 pounds of SO2 per million Btu in a two-hour average maximum. Issued permits prohibit the use of high sulfur oil unless the applicant demonstrates to the control office that a) sufficient quantities of low sulfur oil is not available for use, and b) that the SO2 ambient air quality standards will not be violated. If an exemption is made, then the permittee must submit monthly reports to the bureau. The permit shall be modified when conditions justifying the use of high sulfur oil no longer exist. Rule 32, section H was superseded by Rule 322.⁴ Rule 32, section J states that asphalt kettles shall be operated with good modern practices including, but not limited to: (1) maintain temperatures both below the asphalt flash point and the manufacture maximum recommended temperature, (2) except when charging, operate Kettles with a closed lid, (3) pump asphalt from the kettle, (4) draw asphalt through cocks without dipping, (5) fire kettle with clean burning fuel, and 6) maintain a clean, properly adjusted and good operating condition kettle. Rule 32, section J is being rescinded and replaced by analogous requirements in Rule 320, section 307 (submitted on November 13, 2023). Rule 32, section K states that the discharge of carbon monoxide (CO) from any process source shall be effectively controlled by secondary combustion. Rule 32, section K was superseded by Rule 322 and Rule 323.⁵

⁴ 87 FR 8418 (February 15, 2022).

⁵ 88 FR 7879 (February 7, 2023).

Rule 41, section A requires owners, lessees, or operators to provide, install, maintain, and operate air contaminant monitoring devices that are required to determine compliance acceptable to the Control Officer. Owners, lessees, or operators shall also provide monitoring information in writing to the Control Office, with the devices available for inspection during all reasonable times. Rule 41, section A was superseded by Arizona Revised Statute 36-780.⁶ Rule 41, section B requires owners or operators of fossil fuel-fired steam generators, fluid bed catalytic cracking unit catalyst regenerators, sulfuric acid and nitric acid plants to install, calibrate, operate, and maintain all monitoring equipment to continually monitor opacity, NOX, SO2, oxygen and CO2. The rule provides basic requirements for monitoring equipment and performance specifications as set forth in Title 40 CFR, Part 60, Chapter 1, Appendix B. SIP Rule 41, section B also provides requirements for the calibration of gases, cycling times, monitor location, combined effluents, span, and data reporting and recordkeeping. Sources of catalytic cracking unit catalyst regenerators, sulfuric acid and nitric acid plants that are applicable to Rule 41, section B are not currently located in Maricopa County. However, if a new source is constructed in the County for one of these categories, it will be subject to the New Source Performance Standards promulgated in 40 CFR part 60 and the New Source Review program, and would be exempted from Rule 41, section B. Therefore, Rule 41, section B is unenforceable or superseded by other requirements.

⁶ 47 FR 26382 (June 18, 1982).

Rule 41, section B is being rescinded without replacement.

Rule 42 requires that an owner or operator test the openings in a system, stack, or the stack extension. If the facilities are not adequate for testing, the Control Office shall supply to the owner or operator, in writing, the necessary testing requirements for these facilities. Rule 42 does not specify emission limits or achieve any emission reductions, nor are any test methods specified in Rule 42. MCAQD rules now contain a section that identifies test methods for the rule and EPA reviews those methods when each rule is approved. Rule 42 is being rescinded without replacement.

Rule 74, section C states that the public shall have daily notifications for the concentrations of total suspended particles, CO, and ozone based on the Pollution Standard Index. Rule 74, section C was superseded by Rule 100.⁷

⁷ 87 FR 8418 (February 15, 2022).

Additionally, Table 3 identifies rules from the 2017 SIP submittal that were requested to be rescinded and/or replaced but have since been superseded by action on other SIP submittals that contained the same rules.

Table 3—Rules Superseded by Different Rulemakings
Rule No. | Title | SIP submittal date | SIP approved date | FR citation
100 | General Provisions and Definitions | December 20, 2019 | February 15, 2022 | 87 FR 8418
210 | Title V Permit Provisions | December 20, 2019 | February 15, 2022 | 87 FR 8418
220 | Non-Title V Permit Provisions | December 20, 2019 | February 15, 2022 | 87 FR 8418
322 | Power Plant Operations | June 30, 2021 | December 15, 2021 | 87 FR 8046
323 | Fuel Burning Equipment from Industrial/Commercial/Institutional (ICI) Sources | June 30, 2021 | February 7, 2023 | 88 FR 7879
336 | Surface Coating Operations | June 22, 2017 | January 1, 2021 | 86 FR 971

The EPA's technical support document (TSD) has more information about these rules.

II. The EPA's Evaluation and Action

A. How is the EPA evaluating the request for rescission, and/or replacement?

Once a rule has been approved as part of a SIP, the rescission of that rule from the SIP constitutes a SIP revision. To approve such a revision, the EPA must determine whether the revision meets relevant CAA criteria for stringency, if any, and complies with restrictions on relaxation of SIP measures under CAA section 110(l), and the General Savings Clause in CAA section 193 for SIP-approved control requirements in effect before November 15, 1990.

Stringency: Generally, rules must be protective of the NAAQS, and must require RACT in nonattainment areas for ozone. Maricopa County is currently designated as nonattainment for ozone and classified as Moderate for the 2008 8-hour NAAQS (see 40 CFR 81.303, 81 FR 26699).

Plan Revisions: States must demonstrate that SIP revisions would not interfere with attainment, reasonable further progress or any other applicable requirement of the CAA under the provisions of CAA section 110(l) and section 193.

Guidance and policy documents that we used to evaluate enforceability, revision/relaxation and rule stringency requirements for the applicable criteria pollutants include the following:

1. “State Implementation Plans; General Preamble for the Implementation of Title I of the Clean Air Act Amendments of 1990,” 57 FR 13498 (April 16, 1992); 57 FR 18070 (April 28, 1992).

2. Letter dated February 12, 1990, from Johnnie L. Pearson, Chief Regional Activities Section, ROB, to Chief, Air Branch, Region I-X, Subject: “Review of State Regulation Recodifications.”

B. Do the rule rescissions, and/or replacements, meet the evaluation criteria?

We have concluded that the rules in Table 1 are appropriate for rescission, and/or replacement. The rule sections to be rescinded from the SIP without replacement either have already been superseded in the SIP by requirements that are at least as stringent or are requirements that do not address any particular CAA requirements, do not include definitions that are not otherwise defined elsewhere, do not include provisions that are necessary to implement or protect any of the NAAQS and do not fulfill RACT requirements. For the rule sections to be rescinded and replaced, the requirements are being replaced with analogous requirements that are at least as stringent. As such, the removal and/or replacement of the rules covered by this proposed rulemaking would not impact the overall stringency of the Arizona SIP. The reasons for the rule rescissions, and/or replacements, can be summarized into the following categories:

Category 1—Rules that do not establish emission limits or enforce the NAAQS: Rule 42 and Rule 28.

Category 2—Rules that have been superseded and are no longer needed in the SIP: Rule 22, Rule 32 sections G, H, and J, Rule 41, section A, and Rule 74, section C.

Category 3—Unenforceable Rules: Rule 32, section K and Rule 41, section B.

Category 4—Rules that are being rescinded and replaced: Rule 32, sections G and J are being replaced by Rules 320, sections 306 and 307.

In sum, the rules being rescinded and/or replaced address local issues and are no longer needed for the purposes for which SIPs are developed and approved, namely the implementation, maintenance, and enforcement of the NAAQS.

The TSD has more information on our evaluation.

C. Public Comment and Proposed Action

As authorized in section 110(k)(3) of the Act, the EPA proposes to fully approve the requested rescission of the rules listed in Table 1 above, and subsequent replacement of SIP-approved rules, because they fulfill all relevant requirements. We will accept comments from the public on this proposal until May 16, 2024. If we take final action to approve the rescission, and/or replacement, of the submitted rules, our final action will remove the rescinded rules from the federally enforceable SIP, and replace these rules in the federally enforceable SIP as described.

III. Incorporation by Reference

In this rule, the EPA is proposing to include in a final EPA rule regulatory text that includes incorporation by reference. In accordance with requirements of 1 CFR 51.5, the EPA is proposing to incorporate by reference Maricopa County Air Quality Department, Rule 320, Odors and Gaseous Air Contaminants, sections 306 and 307, revised on July 2, 2003, which regulate emissions of SO2 from fossil fuel fired steam generators. In addition, the EPA is proposing to rescind Rule 22, Rule 28, Rule 32 sections H and K, Rule 41 sections A and B, Rule 42, and Rule 74 section C from the MCAQD SIP without replacement because the rules either have already been superseded in the SIP by requirements that are at least as stringent or are requirements that do not address any particular CAA requirements, do not include definitions that are not otherwise defined elsewhere, do not include provisions that are necessary to implement or protect any of the NAAQS and do not fulfill RACT requirements. The EPA has made, and will continue to make, these materials available through https://www.regulations.gov and at the EPA Region IX Office (please contact the person identified in the FOR FURTHER INFORMATION CONTACT section of this preamble for more information).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate environmental justice considerations as part of its SIP submittal; the CAA and applicable implementing regulations neither prohibit nor require such an evaluation. The EPA did not perform an EJ analysis and did not consider EJ in this action. Consideration of EJ is not required as part of this action, and there is no information in the record inconsistent with the stated goal of Executive Order 12898 of achieving environmental justice for people of color, low-income populations, and Indigenous peoples.

List of Subjects in 40 CFR Part 52

Environmental protection, Air pollution control, Carbon monoxide, Incorporation by reference, Intergovernmental relations, Nitrogen oxides, Ozone, Particulate matter, Recordkeeping requirements, Volatile organic compounds.

Dated: April 9, 2024.
Martha Guzman Aceves,
Regional Administrator, Region IX.

[FR Doc. 2024-07954 Filed 4-15-24; 8:45 am]

BILLING CODE 6560-50-P